DEPARTMENT OF TRANSPORTATION

Federal Aviation Administration

14 CFR Part 39

[Docket No. 2001-CE-47-AD]

RIN 2120-AA64

Airworthiness Directives; Fairchild Aircraft, Inc. Models SA226 and SA227 Series Airplanes

AGENCY: Federal Aviation Administration, DOT.

ACTION: Notice of proposed rulemaking (NPRM).

SUMMARY: This document proposes to supersede Airworthiness Directive (AD) 2001-20-14, which currently requires you to replace the brake shuttle valves with parts of improved design and install a shield over the hydraulic lines on certain Fairchild Aircraft SA226 and SA227 series airplanes. AD 2001-20-14 also requires you to replace the rubber fuel hose with a metal device for certain SA226 series airplanes. AD 2001-20-14 resulted from a report of a wheel brake system malfunction caused by a faulty brake shuttle valve. The FAA incorrectly referenced Model SA226-T(A) airplanes and inadvertently omitted certain serial numbers of Model SA227-AC airplanes from AD 2001-20-14. This proposed AD would retain the actions of AD 2001-20-14, correct the reference of Model SA226-T(A) airplanes, and would add additional Model SA227-AC airplanes to the Applicability section of the AD. The actions specified by this proposed AD are intended to correct potential brake shuttle valve problems, which could cause the brake assembly to drag and overheat. Hydraulic or fuel line damage could then occur if the overheated brake assembly is retracted into the main wheel well with a consequent fire if the hydraulic or fuel lines ruptured.

DATES: The Federal Aviation Administration (FAA) must receive any comments on this proposed rule on or before February 19, 2002 .

ADDRESSES: Submit comments to FAA, Central Region, Office of the Regional Counsel, Attention: Rules Docket No. 2001-CE-47-AD, 901 Locust, Room 506, Kansas City, Missouri 64106. You may view any comments at this location between 8 a.m. and 4 p.m., Monday through Friday, except Federal holidays.

You may get service information that applies to this proposed AD from Fairchild Aircraft, Inc., P.O. Box 790490, San Antonio, Texas 78279-0490; telephone: (210) 824-9421; facsimile: (210) 820-8609. You may also view this information at the Rules Docket at the address above.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Comments Invited

How do I comment on this proposed AD? The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your comments, you must include a self-addressed, stamped postcard. On the postcard, write “Comments to Docket No. 2001-CE-47-AD.” We will date stamp and mail the postcard back to you.

Discussion

Has FAA taken any action to this point? The FAA received a report of an accident involving a Fairchild Model SA226-TC airplane where the flight crew lost control of the airplane at low altitude during the final approach for landing. Prior to the accident, the flight crew reported a loss of hydraulic pressure and a fire on the left side of the airplane. The report of this accident caused us to issue AD 2001-20-14, Amendment 39-12462 (66 FR 52020, October 12, 2001). This AD requires the following on certain Fairchild Aircraft SA226 and SA227 series airplanes:

—Replace the brake shuttle valves with parts of improved design (except on airplanes with an anti-skid/power brake system);

—Install a shield over the hydraulic lines; and

—Replace the rubber fuel hose with a metal device on certain SA226 series airplanes.

What has happened since AD 2001-20-14 to initiate this action? The FAA incorrectly referenced Model SA226-T(A) airplanes and inadvertently omitted certain serial numbers of Model SA227-AC airplanes from the applicability of AD 2001-20-14. In particular, we referenced serial numbers T(A)249 through T(A)291 as Model SA226-T(A) airplanes. These serial numbers should be T249 through T291, except T276, as Model SA226-T airplanes. We also restricted the applicability of Model SA227-AC airplanes to serial numbers AC406, AC415, AC416, and AC420 through AC599. Any Model SA227-AC airplane incorporating a serial number from AC600 through AC789 should also be affected by the actions of AD 2001-20-14.

Accomplishment of the actions as specified in AD 2001-20-14 is required in accordance with the following documents:

—Fairchild Aircraft Service Bulletin No. 226-26-003, which applies to certain SA226 series airplanes and incorporates the following pages:

Pages | Date
16 | Issued: March 1, 2000.
14, 15 | Issued: March 1, 2000, Revised: June 27, 2000.
17 | Issued: March 1, 2000, Revised: October 2, 2000.
4, 5, 6, 7, 10, 11, 12, and 13 | Issued: March 1, 2000, Revised: January 19, 2001.
1, 2, 3, 8, and 9 | Issued: March 1, 2000, Revised: August 10, 2001 and

—Fairchild Aircraft Service Bulletin No. 227-26-002, which applies to certain SA227 series airplanes and incorporates the following pages:

Pages | Date
1, 2, 8, and 9 | Issued: March 1, 2000.
7 | Issued: March 1, 2000, Revised: June 27, 2000.
3, 4, 5, and 6 | Issued: March 1, 2000, Revised: October 2, 2000.

What are the provisions of these service bulletins? These service bulletins include procedures for:

—Replacing each brake shuttle valve with a part number (P/N) MS28767-4 brake shuttle valve;

—Replacing the rubber fuel hose with a metal device; and

—Installing a shield over the hydraulic lines.

The FAA's Determination and an Explanation of the Provisions of This Proposed AD

What has FAA decided? After examining the circumstances and reviewing all available information related to the incidents described above, we have determined that:

—The unsafe condition referenced in this document exists or could develop on other certain Fairchild Aircraft SA226 and SA227 series airplanes of the same type design;

—The actions specified in the previously-referenced service information should be accomplished on the affected airplanes; and

—AD action should be taken in order to correct this unsafe condition.

What would this proposed AD require? This proposed AD would supersede AD 2001-20-14 with a new AD that would retain the actions of AD 2001-20-14, correct the reference to Model SA226-T(A) airplanes, and would include additional Model SA227-AC airplanes in the Applicability section of the AD.

Cost Impact

How many airplanes would this proposed AD impact? We estimate that this proposed AD affects 186 SA226 Series airplanes and 72 SA227 Series airplanes in the U.S. registry for total of 258 affected airplanes.

What would be the cost impact of this proposed AD on owners/operators of the affected airplanes? We estimate the following costs to accomplish the proposed replacement and installation:

SA226 Series Airplanes
Labor cost | Parts cost | Total cost per airplane | Total cost on U.S. operators
65 workhours × $60 per hour = $3,900 | $3,431 | $7,331 | $7,331 × 186 = $1,363,566.

SA227 Series Airplanes
Labor cost | Parts cost | Total cost per airplane | Total cost on U.S. operators
55 workhours × $60 | $1,369 per hour = $3,300. | $4,669 | $4,669 × 72 = $336,168.

The only difference between AD 2001-20-14 and this proposed AD is the expanded applicability of Model SA227-AC airplanes that we inadvertently omitted from the

“Applicability” section of AD 2001-20-14. However, the estimated number of total airplanes affected has not changed. The only impact this proposed AD would have over that already required by AD 2001-20-14 is the burden to the owners/operators of the cost of the proposed actions on the additional airplanes.

Compliance Time of this Proposed AD

What would be the compliance time of this proposed AD? The compliance time of this proposed AD is at whichever of the following that occurs later:

—Within 500 hours time-in-service (TIS) after the effective date of this AD or AD 2001-20-14, as applicable; or

—Within 6 months after the effective date of this AD or AD 2001-20-14, as applicable.

Why is the compliance time of the proposed AD presented in both hours TIS and calendar time? The affected airplanes are used in both general aviation and commuter operations. Those commuter operators may accumulate 500 hours TIS on the airplane in less than 2 months and many owners have numerous affected airplanes in their fleets. We have determined that the dual compliance time:

—gives all owners/operators of the affected airplanes adequate time to schedule and accomplish the actions in this proposed AD; and

—assures that the unsafe condition referenced in this AD will be corrected within a reasonable time period without inadvertently grounding any of the affected airplanes.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations(14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2001-20-14, Amendment 39-12462 (66 FR 52020, October 12, 2001), and by adding a new AD to read as follows:

Fairchild Aircraft, Inc.: Docket No. 2001-CE-47-AD; Supersedes AD 2001-20-14, Amendment 39-12462.

(a) What airplanes are affected by this AD? This AD affects the following airplane models and serial numbers that are certificated in any category:

(1) Group 1: Fairchild Aircraft Inc. airplanes retained from AD 2001-20-14:

Model | Serial Nos.
SA226-AT | AT001 through AT074.
SA226-T | T201 through T291, except T276.
SA226-T(B) | T(B) 276 and T(B) 292 through T(B) 417.
SA226-TC | TC201 through TC419.
SA227-AC | AC406, AC415, AC416, and AC420 through AC599.
SA227-AT | AT421, AT423 through AT631, and AT695.
SA227-TT | TT421 through TT555.
SA227-TT(300) | TT447, TT465, TT471, TT483, TT512, TT518, TT521, TT527, TT529, and 536.

(2) Group 2: Fairchild Aircraft, Inc. airplanes added to the applicability of this AD (not included in AD 2001-20-14):

Model | Serial Nos.
SA227-AC | AC600 through AC789.

(b) Who must comply with this AD? Anyone who wishes to operate any of the above airplanes must comply with this AD. The AD applies to any airplane with or without an anti-skid/power brake system installed.

(c) What problem does this AD address? The actions specified by this AD are intended to correct potential brake shuttle valve problems, which could cause the brake assembly to drag and overheat. Hydraulic or fuel line damage could then occur if the overheated brake assembly is retracted into the main wheel well, with a consequent fire if the hydraulic or fuel lines ruptured.

(d) What actions must I accomplish to address this problem for Group 1 airplanes? To address this problem for Group 1 airplanes, you must accomplish the following:

Actions | Compliance | Procedures
(1) For all affected airplanes, except those equipped with an anti-skid/power brake system, replace each brake shuttle valve with part number (P/N) MS28767-4 brake shuttle valve (or FAA-approved equivalent part number) | Within 500 hours time-in-service (TIS) after November 21, 2001 (the effective date of AD 2001-20-14), or within 6 months after November 21, 2001 (the effective date of AD 2001-20-14), whichever occurs later | In accordance with the ACCOMPLISHMENT INSTRUCTIONS section of Fairchild Aircraft Service Bulletin No. 226-26-003, or Fairchild Aircraft Service Bulletin No. 227-26-002, as applicable.
(2) For all affected airplanes, install a shield over the hydraulic lines | Within 500 hours time-in-service (TIS) after November 21, 2001 (the effective date of AD 2001-20-14), or within 6 months after November 21, 2001 (the effective date of AD 2001-20-14), whichever occurs later | In accordance with the ACCOMPLISHMENT INSTRUCTIONS section of Fairchild Aircraft Service Bulletin No. 226-26-003, or Fairchild Aircraft Service Bulletin No. 227-26-002, as applicable.
(3) For all airplane models within the SA226 series replace the rubber fuel hose with a metal device | Within 500 hours time-in-service (TIS) after November 21, 2001 (the effective date of AD 2001-20-14), or within 6 months after November 21, 2001 (the effective date of AD 2001-20-14), whichever occurs later | In accordance with the ACCOMPLISHMENT INSTRUCTIONS section of Fairchild Aircraft Service Bulletin No. 226-26-003.
(4) Do not install any brake shuttle valve that is not a P/N MS28767-4 brake shuttle valve (or FAA-approved equivalent part number) or a fuel hose that is made out of rubber | As of November 21, 2001 (the effective date of AD 2001-20-14) | Not Applicable.

(e) What actions must I accomplish to address this problem for Group 2 airplanes? To address this problem for Group 2 airplanes, you must accomplish the following:

Actions | Compliance | Procedures
(1) For all affected airplanes except those equipped with an anti-skid/power brake system, replace each brake shuttle valve with part number (P/N) MS28767-4 brake shuttle valve (or FAA-approved equivalent part number) | Within 500 hours time-in service (TIS) after the effective date of this AD or within 6 months after the effective date of this AD, whichever occurs later | In accordance with the ACCOMPLISHMENT INSTRUCTIONS section of Fairchild Aircraft Service Bulletin No. 227-26-002.
(2) For all affected airplanes, install a shield over the hydraulic lines | Within 500 hours time-in-service (TIS) after the effective date of this AD or within 6 months after the effective date of this AD, whichever occurs later | In accordance with the ACCOMPLISHMENT INSTRUCTIONS section of Fairchild Aircraft Service Bulletin No. 227-26-002.
(3) Do not install any brake shuttle valve that is not a P/N MS28767-4 brake shuttle valve (or FAA-approved equivalent part number) or a fuel hose that is made out of rubber | As of the effective date of this AD | Not Applicable.

(f) What revision levels do the affected service bulletins currently incorporate? The service bulletins required to accomplish these actions incorporate the following pages:

(1) Fairchild Aircraft Service Bulletin No. 226-26-003:

Affected pages | Revision level | Date
16 | Original Issue | March 1, 2000.
14, 15 | Revision 1 | June 27, 2000.
17 | Revision 2 | October 2, 2000.
4, 5, 6, 7, 10, 11, 12, and 13 | Revision 3 | January 19, 2001.
1, 2, 3, 8, and 9 | Revision 4 | August 10, 2001.

(2) Fairchild Aircraft Service Bulletin No. 227-26-002:

Affected pages | Revision Level | Date
1, 2, 8, and 9 | Original Issue | March 1, 2000.
7 | Revision 1 | June 27, 2000.
3, 4, 5, and 6 | Revision 2 | October 2, 2000.

(g) Can I comply with this AD in any other way? (1) You may use an alternative method of compliance or adjust the compliance time if:

(i) Your alternative method of compliance provides an equivalent level of safety; and

(ii) The Manager, Fort Worth Airplane Certification Office (ACO), approves your alternative. Submit your request through an FAA Principal Maintenance Inspector, who may add comments and then send it to the Manager, Fort Worth ACO.

(2) Alternative methods of compliance approved in accordance with AD 2001-20-14, which is superseded by this AD, are approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if you have not eliminated the unsafe condition, specific actions you propose to address it.

(h) Where can I get information about any already-approved alternative methods of compliance? Contact Werner Koch, Aerospace Engineer, FAA, Airplane Certification Office, 2601 Meacham Boulevard, Fort Worth, Texas 76193-0150; telephone: (817) 222-5133; facsimile: (817) 222-5960.

(i) What if I need to fly the airplane to another location to comply with this AD? The FAA can issue a special flight permit under sections 21.197 and 21.199 of the Federal Aviation Regulations (14 CFR 21.197 and 21.199) to operate your airplane to a location where you can accomplish the requirements of this AD.

(j) How do I get copies of the documents referenced in this AD? You may get copies of the documents referenced in this AD from Fairchild Aircraft, Inc., P.O. Box 790490, San Antonio, Texas 78279-0490. You may view these documents at FAA, Central Region, Office of the Regional Counsel, 901 Locust, Room 506, Kansas City, Missouri 64106.

(k) Does this AD action affect any existing AD actions?This amendment supersedes AD 2001-20-14, Amendment 39-12462.

Issued in Kansas City, Missouri, on December 14, 2001.
Dorenda D. Baker,
Acting Manager, Small Airplane Directorate, Aircraft Certification Service.

[FR Doc. 01-31554 Filed 12-26-01; 8:45 am]

BILLING CODE 4910-13-P